DEPARTMENT OF HOUSING AND URBAN DEVELOPMENT

24 CFR Part 990

[Docket No. FR-4874-C-03]

Operating Fund Program; Notice of Intent To Establish a Negotiated Rulemaking Committee and Notice of First Meeting; Correction

AGENCY: Office of the Assistant Secretary for Public and Indian Housing, HUD.

ACTION: Correction.

SUMMARY: On January 28, 2004, HUD published a notice announcing its intent to establish a negotiated rulemaking advisory committee under the Federal Advisory Committee Act. The purpose of the Committee is to provide advice and recommendations on developing a rule for effectuating changes to the Public Housing Operating Fund Program in response to the Harvard University Graduate School of Design's “Public Housing Operating Cost Study.” Among other information, the January 28, 2004, notice contains a list of the proposed committee members, and solicits public comment on the proposed membership of the committee. The list of committee members contains a typographical error. Specifically, the January 28, 2004, notice incorrectly identifies the location of the Alameda County Housing Authority as Alameda, California. The housing authority is located in the city of Hayward, California. This document makes the necessary correction.

DATES: Comment Due Date: The due date for public comments provided in the January 28, 2004, notice is unchanged. Comments on the committee and its proposed membership are due on or before: February 27, 2004.

ADDRESSES: Interested persons are invited to submit comments regarding the committee and its proposed members to the Regulations Division, Office of General Counsel, Room 10276, Department of Housing and Urban Development, 451 Seventh Street, SW., Washington, DC 20410-0500. Comments or any other communications submitted should consist of an original and four copies and refer to the above docket number and title. Facsimile (FAX) comments are not acceptable. The docket will be available for public inspection and copying between 8 a.m. and 5 p.m. weekdays at the above address.

FOR FURTHER INFORMATION CONTACT: Chris Kubacki, Director, Funding and Financial Management Division, Public and Indian Housing—Real Estate Assessment Center, Suite 800, Department of Housing and Urban Development, 1280 Maryland Ave., SW., Washington, DC 20024-2135; telephone (202) 708-4932 (this telephone number is not toll-free). Individuals with speech or hearing impairments may access this number through TTY by calling the toll-free Federal Information Relay Service at 1-800-877-8339.

SUPPLEMENTARY INFORMATION: On January 28, 2004 (69 FR 4212), HUD published a notice announcing its intent to establish a negotiated rulemaking advisory committee under the Federal Advisory Committee Act. The purpose of the Committee is to provide advice and recommendations on developing a rule for effectuating changes to the Public Housing Operating Fund Program in response to the Harvard University Graduate School of Design's “Public Housing Operating Cost Study.” Among other information, the January 28, 2004, notice contains a list of the proposed committee members, and solicits public comment on the proposed membership of the committee. The list of committee members contains a typographical error. Specifically, the January 28, 2004, notice incorrectly identifies the location of the Alameda County Housing Authority as Alameda, California. The housing authority is located in the city of Hayward, California. This document makes the necessary correction.

For the convenience of readers, HUD is republishing the complete list of committee members, including the corrected location of the Alameda County Housing Authority. The list of proposed committee members is as follows:

Housing Agencies

1. Atlanta Housing Authority, Atlanta, GA

2. New York City Housing Authority, NYC, NY

3. Puerto Rico Housing Authority, San Juan, PR

4. Chicago Housing Authority, Chicago, IL

5. Dallas Housing Authority, Dallas, TX

6. Anne Arundel Housing Authority, Anne Arundel, MD

7. Indianapolis Housing Authority, Indianapolis, IN

8. Albany Housing Authority, Albany, NY

9. Jackson Housing Authority, Jackson, MS

10. Boise City/Ada County Housing Authority, Boise City, ID

11. Reno Housing Authority, Reno, NV

12. Alameda County Housing Authority, Hayward, CA

13. Athens Housing Authority, Athens, GA

14. Housing Authority of East Baton Rouge, Baton Rouge, LA

15. Housing Authority of the City of Montgomery, Montgomery, AL

Tenant Organizations

1. Jack Cooper, Massachusetts Union of Public Housing Tenants, Needham, MA

Other Interests/Policy Groups

1. Ned Epstein, Housing Partners, Inc.

2. Howard Husock, Director of Kennedy School Case Program

3. Greg Byrne, Project Director for Harvard Cost Study

4. Dan Anderson, Bank of America

5. David Land, Lindsey and Company

6. Council of Large Public Housing Agencies

7. National Association of Housing and Redevelopment Officials

8. Public Housing Authorities Directors Association

9. National Organization of African Americans in Housing

Federal Government

1. Assistant Secretary Michael Liu, U.S. Department of Housing and Urban Development

2. Deputy Assistant Secretary William Russell, U.S. Department of Housing and Urban Development

Dated: January 30, 2004.
William O. Russell III,
Deputy Assistant Secretary, Office of Public Housing and Voucher Programs.

[FR Doc. 04-2543 Filed 2-5-04; 8:45 am]

BILLING CODE 4210-33-P